DEPARTMENT OF COMMERCE

National Oceanic and Atmospheric Administration

[I.D. 032000A]

Marine Mammals; File No. 895-1450-00

AGENCY: National Marine Fisheries Service (NMFS), National Oceanic and Atmospheric Administration (NOAA), Commerce.

ACTION: Receipt of application for amendment.

SUMMARY: Notice is hereby given that Rachel Cartwright, P.O. Box 1317, Lahaina, Hawaii 96767, has requested an amendment to Scientific Research Permit No. 895-1450-00.

DATES: Written or telefaxed comments must be received on or before May 1, 2000.

ADDRESSES: The amendment request and related documents are available for review upon written request or by appointment in the following office(s):

Permits and Documentation Division, Office of Protected Resources, NMFS, 1315 East-West Highway, Room 13705, Silver Spring, MD 20910 (301/713-2289);

Regional Administrator, Alaska Region, NMFS, 709 W 9th Street, Federal Building, Room 461, P.O. Box 21668, Juneau, AK 99802 (907-586-7235); and

Protected Species Program Manager, Pacific Islands Area Office, NMFS, NOAA, 1601 Kapiolani Boulevard, Suite 1110, Honolulu, Hawaii 96814-4700 (808/973-2935).

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Jeannie Drevenak or Trevor Spradlin, 301/713-2289.

SUPPLEMENTARY INFORMATION: The subject amendment to Permit No. 895-1450-00, issued on December 23, 1998 (64 FR 862) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226). Permit No. 895-1450-00 authorizes the permit holder to harass annually up to 1,100 humpback whales (Megaptera novaeangliae), including mother/calf pairs, during the conduct of scientific research on the whales in Hawaii waters. The purpose of the research is to study North Pacific humpback whale calf behavior and development. Research activities involve photo-identification and observation of the whales' surface and underwater behaviors. Activities are carried out between January and April, in the waters around the main Hawaiian Islands. The applicant is now requesting authorization to extend the study to Alaska waters. Extending the study to Alaska waters would allow documentation of the whole first year of the life of the humpback whale calf, incorporating the entire period of the calf's known association with the mother. The applicant is not requesting an increase in the number of animals authorized to be harassed under the Permit. The applicant proposes to initiate work in Alaska in early June 2000.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 24, 2000.
Ann D. Terbush,
Chief, Permits and Documentation Division, Office of Protected Resources, National Marine Fisheries Service.

[FR Doc. 00-7923 Filed 3-29-00; 8:45 am]

BILLING CODE 3510-22-F